NATIONAL CREDIT UNION ADMINISTRATION

Sunshine Act Meetings

TIME AND DATE: 10:00 a.m., Thursday, December 14, 2023.

PLACE: Board Room, 7th Floor, Room 7B, 1775 Duke Street (All visitors must use Diagonal Road Entrance), Alexandria, VA 22314-3428.

STATUS: Open.

MATTERS TO BE CONSIDERED:

1. NCUA Operating Fee Schedule Methodology.

2. NCUA's 2024-2025 Budget.

3. Request for Comment, NCUA Overhead Transfer Rate (OTR) Methodology.

4. Central Liquidity Facility's 2024 Budget.

(The NCUA Board, in its capacity as the Central Liquidity Facility Board).

CONTACT PERSON FOR MORE INFORMATION: Melane Conyers-Ausbrooks, Secretary of the Board, Telephone: 703-518-6304.

Melane Conyers-Ausbrooks,
Secretary of the Board.

[FR Doc. 2023-27293 Filed 12-8-23; 4:15 pm]

BILLING CODE 7535-01-P